ENVIRONMENTAL PROTECTION AGENCY

[FRL-9914-81-OEI]

Cross-Media Electronic Reporting: Authorized Program Revision Approval, State of Arkansas

AGENCY: Environmental Protection Agency (EPA).

ACTION: Notice.

SUMMARY: This notice announces EPA's approval of the State of Arkansas' request to revise/modify certain of its EPA-authorized programs to allow electronic reporting.

DATES: EPA's approval is effective August 8, 2014.

FOR FURTHER INFORMATION CONTACT: Karen Seeh, U.S. Environmental Protection Agency, Office of Environmental Information, Mail Stop 2823T, 1200 Pennsylvania Avenue NW., Washington, DC 20460, (202) 566-1175, seeh.karen@epa.gov.

SUPPLEMENTARY INFORMATION: On October 13, 2005, the final Cross-Media Electronic Reporting Rule (CROMERR) was published in the Federal Register (70 FR 59848) and codified as part 3 of title 40 of the CFR. CROMERR establishes electronic reporting as an acceptable regulatory alternative to paper reporting and establishes requirements to assure that electronic documents are as legally dependable as their paper counterparts. Subpart D of CROMERR requires that state, tribal or local government agencies that receive, or wish to begin receiving, electronic reports under their EPA-authorized programs must apply to EPA for a revision or modification of those programs and obtain EPA approval. Subpart D provides standards for such approvals based on consideration of the electronic document receiving systems that the state, tribe, or local government will use to implement the electronic reporting. Additionally, § 3.1000(b) through (e) of 40 CFR part 3, subpart D provides special procedures for program revisions and modifications to allow electronic reporting, to be used at the option of the state, tribe or local government in place of procedures available under existing program-specific authorization regulations. An application submitted under the subpart D procedures must show that the state, tribe or local government has sufficient legal authority to implement the electronic reporting components of the programs covered by the application and will use electronic document receiving systems that meet the applicable subpart D requirements.

On October 15, 2013, the Arkansas Department of Environmental Quality (ADEQ) submitted an application titled “Arkansas Department of Environmental Quality Electronic Portal System” for revisions/modifications of its EPA-authorized programs under title 40 CFR. EPA reviewed ADEQ's request to revise/modify its EPA-authorized programs and, based on this review, EPA determined that the application met the standards for approval of authorized program revisions/modifications set out in 40 CFR part 3, subpart D. In accordance with 40 CFR 3.1000(d), this notice of EPA's decision to approve Arkansas' request to revise/modify its following EPA-authorized programs to allow electronic reporting under 40 CFR parts 51, 70-71, 122, 144, 146, 262, 264-265, 270-271, and 279 is being published in the Federal Register:

Part 52—Approval and Promulgation of Implementation Plans;

Part 70—State Operating Permit Programs;

Part 123—EPA Administered Permit Programs: The National Pollutant Discharge Elimination System;

Part 147—State Underground Injection Control Programs; and

Part 272—Approved State Hazardous Waste Management Programs.

ADEQ was notified of EPA's determination to approve its application with respect to the authorized programs listed above.

Dated: July 30, 2014.
Matthew Leopard,
Acting Director, Office of Information Collection.

[FR Doc. 2014-18824 Filed 8-7-14; 8:45 am]

BILLING CODE 6560-50-P